DEPARTMENT OF HEALTH AND HUMAN SERVICES

Health Resources and Services Administration

Administration for Children and Families

Advisory Committee on the Maternal, Infant and Early Childhood Home Visiting Program Evaluation

AGENCY: Health Resources and Services Administration (HRSA), and Administration for Children and Families (ACF), Department of Health and Human Services (HHS).

ACTION: Notice to announce the establishment of the Advisory Committee on the Maternal, Infant and Early Childhood Home Visiting Program Evaluation.

SUMMARY: HRSA and ACF announce through this notice the establishment of the Advisory Committee on the Maternal, Infant and Early Childhood Home Visiting Program Evaluation (“the Committee”), pursuant to subsection 2951(g) of the Patient Protection and Affordable Care Act (Affordable Care Act). Under this authority, the Secretary of Health and Human Services (“the Secretary”) is to appoint an independent advisory panel consisting of experts in program evaluation and research, education, and early childhood development. The purpose of the Committee is to provide advice to the Secretary on the design, plan, progress, and findings of the evaluation required for the home visiting program under the Affordable Care Act.

FOR FURTHER INFORMATION CONTACT: Billie Butler, Maternal and Child Health Bureau; bbutler@hrsa.gov; (301) 443-1149.

SUPPLEMENTARY INFORMATION: Subsection 2951(g) of the Affordable Care Act of 2010 mandates the appointment of an advisory committee to review, and make recommendations on, the design and plan for the evaluation required under the Affordable Care Act, and to maintain and advise the Secretary regarding the progress of the evaluation. To comply with the authorizing directive and the guidelines under the Federal Advisory Committee Act (FACA), a charter has been filed with the Committee Management Secretariat in the General Services Administration (GSA), the appropriate committees in the U.S. Senate and House of Representatives, and the Library of Congress to establish the Committee as a non-discretionary Federal advisory committee. The charter was filed on January 27, 2011.

Objectives and Scope of Activities

The purpose of the Committee is to provide advice and make recommendations to the Secretary through the Administrator, HRSA, and the Assistant Secretary, ACF, with respect to the design, plan, progress and results of the evaluation.

Membership and Designation

The Committee shall consist of up to 25 voting members appointed by the Secretary. Members shall be experts in the areas of program evaluation and research, education, and early childhood development. Independent members shall be appointed as Special Government Employees. The Committee may also include voting members representing HRSA, ACF, and other agencies of the Federal Government designated by the Secretary as ex-officio members. The HRSA Administrator and ACF Assistant Secretary each shall recommend nominees for Co-Chairs of the Committee. Members shall be invited to serve from the date of appointment through March 31, 2015; such terms are contingent upon the renewal of the Committee by appropriate action prior to its termination.

Administrative Management and Support

Coordination, management and operational services for the Committee shall be provided by HRSA with assistance from ACF. A copy of the Committee charter can be obtained from the designated contact or by accessing the FACA database that is maintained by the GSA Committee Management Secretariat. The website for the FACA database is http://fido.gov/facadatabase/.

Authority: The Committee is authorized by subsection 511(g)(1) of Title V of the Social Security Act (42 U.S.C. 701 et seq.), as amended by subsection 2951(g) of the Affordable Care Act of 2010 (Pub. L. 111-148). The Committee is governed by provisions of Public Law 92-463, as amended (5 U.S.C. App.2), which sets forth standards for the formation and use of advisory committees.

Dated: March 4, 2011.
Mary K. Wakefield,
Administrator, Health Resources and Services Administration.
Dated: March 4, 2011.
Mark Greenberg,
Deputy Assistant Secretary for Policy, Administration for Children and Families.

[FR Doc. 2011-5504 Filed 3-7-11; 4:15 pm]

BILLING CODE 4165-15-P